FEDERAL DEPOSIT INSURANCE CORPORATION

Notice of Termination; 10487 Sunrise Bank of Arizona, Phoenix, Arizona

The Federal Deposit Insurance Corporation (FDIC), as Receiver for 10487 Sunrise Bank of Arizona, Phoenix, Arizona (Receiver) has been authorized to take all actions necessary to terminate the receivership estate of Sunrise Bank of Arizona (Receivership Estate); the Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective December 1, 2016, the Receivership Estate has been terminated, the Receiver discharged, and the Receivership Estate has ceased to exist as a legal entity.

Dated: December 7, 2016.
Federal Deposit Insurance Corporation.
Robert E. Feldman,
Executive Secretary.

[FR Doc. 2016-29741 Filed 12-9-16; 8:45 am]

BILLING CODE 6714-01-P